DEPARTMENT OF TRANSPORTATION

Federal Aviation Administration

14 CFR Part 39

[Docket No. FAA-2017-0688; Product Identifier 2017-NE-23-AD; Amendment 39-19353; AD 2018-16-13]

RIN 2120-AA64

Airworthiness Directives; Zodiac Seats France, Cabin Attendant Seats

AGENCY: Federal Aviation Administration (FAA), DOT.

ACTION: Final rule.

SUMMARY: We are adopting a new airworthiness directive (AD) for certain Zodiac Seats France, 537-Series Cabin Attendant Seats. This AD was prompted by operator reports that safety belt wear was found at the attachment to the cabin attendant seat. This AD requires inspecting the safety belt webbing, and modifying and re-marking each affected cabin attendant seat. We are issuing this AD to address the unsafe condition on these products.

DATES: This AD is effective October 26, 2018.

The Director of the Federal Register approved the incorporation by reference of certain publications listed in this AD as of October 26, 2018.

ADDRESSES: For service information identified in this final rule, contact Zodiac Seats France, Rue Robert Marechal Senior B.P. 69, 36100 Issoudun, France; phone: +33 (0) 9 70 83 08 30; fax: +33 (0) 2 54 03 39 00; email: zs.tac@zodiacaerospace.com; internet: http://www.services.zodiacaerospace.com. You may view this service information at the FAA, Engine & Propeller Standards Branch, 1200 District Avenue, Burlington, MA, 01803. For information on the availability of this material at the FAA, call 781-238-7759. It is also available on the internet at http://www.regulations.gov by searching for and locating Docket No. FAA-2017-0688.

Examining the AD Docket

You may examine the AD docket on the internet at http://www.regulations.gov by searching for and locating Docket No. FAA-2017-0688; or in person at Docket Operations between 9 a.m. and 5 p.m., Monday through Friday, except Federal holidays. The AD docket contains this final rule, the mandatory continuing airworthiness information (MCAI), the regulatory evaluation, any comments received, and other information. The address for Docket Operations (phone: 800-647-5527) is U.S. Department of Transportation, Docket Operations, M-30, West Building Ground Floor, Room W12-140, 1200 New Jersey Avenue SE, Washington, DC 20590.

FOR FURTHER INFORMATION CONTACT: Dorie Resnik, Aerospace Engineer, Boston ACO Branch, FAA, 1200 District Avenue, Burlington, MA 01803; phone: 781-238-7693; fax: 781-238-7199; email: dorie.resnik@faa.gov.

SUPPLEMENTARY INFORMATION:

Discussion

We issued a notice of proposed rulemaking (NPRM) to amend 14 CFR part 39 by adding an AD that would apply to certain Zodiac Seats France, 537-Series Cabin Attendant Seats. The NPRM published in the Federal Register on December 11, 2017 (82 FR 58137). The NPRM was prompted by operator reports that safety belt wear was found at the attachment to the cabin attendant seat. The NPRM proposed to require inspecting the safety belt webbing, and modifying and re-marking each affected cabin attendant seat. We are issuing this AD to address the unsafe condition on these products.

The European Aviation Safety Agency (EASA), which is the Technical Agent for the Member States of the European Community, has issued EASA AD 2016-0163, dated August 10, 2016 (referred to after this as “the MCAI”), to address the unsafe condition on these products. The MCAI states:

Cases were reported by operators of finding safety belt worn out at the attachment to the cabin attendant seat. This kind of belt damage is due to chafing between the belt and the surrounding metal lap belt fitting of the cabin attendant seat. This condition, if not detected and corrected, could lead to failure of the attendant seat to perform its intended function, possibly resulting in injury to the seat occupant. Prompted by these occurrences, Zodiac Seats France issued Service Bulletin (SB) No. 537-25-003, providing instructions to modify the affected seats. For the reason described above, this [EASA] AD requires a modification of the seat pan shaft by installing new seat pan spacers, and subsequent re-identification with a new P/N.

You may obtain further information by examining the MCAI in the AD docket on the internet at http://www.regulations.gov by searching for and locating Docket No. FAA-2017-0688.

Comments

We gave the public the opportunity to participate in developing this final rule. We received no comments on the NPRM or on the determination of the cost to the public.

Conclusion

We reviewed the relevant data and determined that air safety and the public interest require adopting this final rule as proposed except for minor editorial changes. We have determined that these minor changes:

• Are consistent with the intent that was proposed in the NPRM for addressing the unsafe condition; and

• Do not add any additional burden upon the public than was already proposed in the NPRM.

Related Service Information Under 1 CFR Part 51

We reviewed Zodiac Seats France Service Bulletin (SB) No. 537-25-003, Revision 1, dated August 29, 2016. The SB describes procedures for installing an anti-rotation device on the seat pan shaft to limit the rotation of the safety belt. We also reviewed Zodiac Seats France Service Information Letter (SIL) 537-01, dated July 31, 2015. The SIL provides details to identify if the safety belt must be removed and replaced and provides instructions on safety belt storage to avoid this premature wear. This service information is reasonably available because the interested parties have access to it through their normal course of business or by the means identified in the ADDRESSES section.

Costs of Compliance

We estimate that this AD affects 55 seat assemblies installed on, but not limited to, Avions de transport regional (ATR) 42 and ATR 72 airplanes of U.S. registry.

We estimate the following costs to comply with this AD:

Estimated Costs
Action | Labor cost | Parts cost | Cost per product | Cost on U.S. operators
Seat inspection and modification | 0.5 work-hours × $85 per hour = $42.50 | $300 | $342.50 | $18,837.50

According to the manufacturer, some of the costs of this AD may be covered under warranty, thereby reducing the cost impact on affected individuals. We do not control warranty coverage for affected individuals. As a result, we have included all costs in our cost estimate.

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

This AD is issued in accordance with authority delegated by the Executive Director, Aircraft Certification Service, as authorized by FAA Order 8000.51C. In accordance with that order, issuance of ADs is normally a function of the Compliance and Airworthiness Division, but during this transition period, the Executive Director has delegated the authority to issue ADs applicable to engines, propellers, and associated appliances to the Manager, Engine and Propeller Standards Branch, Policy and Innovation Division.

Regulatory Findings

This AD will not have federalism implications under Executive Order 13132. This AD will not have a substantial direct effect on the States, on the relationship between the national government and the States, or on the distribution of power and responsibilities among the various levels of government.

For the reasons discussed above, I certify this AD:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2018-16-13 Zodiac Seats France (formerly SICMA Aero Seat): Amendment 39-19353; Docket No. FAA-2017-0688; Product Identifier 2017-NE-23-AD.

(a) Effective Date

This AD is effective October 26, 2018.

(b) Affected ADs

None.

(c) Applicability

(1) This AD applies to all Zodiac Seats France, 537-Series Cabin Attendant Seats, part number (P/N) 53701-( )( )-( )( )( ).

(2) These appliances are installed on, but not limited to, Avions de transport regional (ATR) 42 and ATR 72 airplanes of U.S. registry.

(d) Subject

Joint Aircraft System Component (JASC) 2500 Code, Cabin Equipment/Furnishings.

(e) Unsafe Condition

This AD was prompted by operator reports that safety belt wear was found at the attachment to the cabin attendant seat. We are issuing this AD to prevent failure of these attendant seats. The unsafe condition, if not addressed, could result in possible injury to the seat occupant.

(f) Compliance

Comply with this AD within the compliance times specified, unless already done.

(g) Required Actions

Within 720 flight cycles after the effective date of this AD, inspect safety belt webbing, modify and re-mark each affected cabin attendant seat using Zodiac Seats France Service Information Letter 537-01, dated July 31, 2015, and the Accomplishment Instructions, paragraphs 2.A. through 2.B., of Zodiac Seats France Service Bulletin No. 537-25-003, Revision 1, dated August 29, 2016.

(h) Installation Prohibition

After the effective date of this AD, do not install any affected Zodiac Seats France cabin attendant seat on any aircraft.

(i) Alternative Methods of Compliance (AMOCs)

(1) The Manager, Boston ACO Branch, FAA, has the authority to approve AMOCs for this AD, if requested using the procedures found in 14 CFR 39.19. In accordance with 14 CFR 39.19, send your request to your principal inspector or local Flight Standards District Office, as appropriate. If sending information directly to the manager of the Boston ACO Branch, send it to the attention of the person identified in paragraph (j)(1) of this AD.

(2) Before using any approved AMOC, notify your appropriate principal inspector, or lacking a principal inspector, the manager of the local flight standards district office/certificate holding district office.

(j) Related Information

(1) For more information about this AD, contact Dorie Resnik, Aerospace Engineer, Boston ACO Branch, FAA, 1200 District Avenue, Burlington, MA 01803; phone: 781-238-7693; fax: 781-238-7199; email: dorie.resnik@faa.gov.

(2) Refer to European Aviation Safety Agency (EASA) AD 2016-0163, dated August 10, 2016, for more information. You may examine the EASA AD in the AD docket on the internet at http://www.regulations.gov by searching for and locating Docket No. FAA-2017-0688.

(k) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) Zodiac Seats France Service Bulletin No. 537-25-003, Revision 1, dated August 29, 2016.

(ii) Zodiac Seats France Service Information Letter 537-01, dated July 31, 2015.

(3) For service information identified in this AD, contact Zodiac Seats France, Rue Robert Marechal Senior B.P. 69, 36100 Issoudun, France; phone: +33 (0) 9 70 83 08 30; fax: +33 (0) 2 54 03 39 00; email: zs.tac@zodiacaerospace.com; internet: http://www.services.zodiacaerospace.com.

(4) You may view this service information at FAA, Engine & Propeller Standards Branch, 1200 District Avenue, Burlington, MA 01803. For information on the availability of this material at the FAA, call 781-238-7759.

(5) You may view this service information that is incorporated by reference at the National Archives and Records Administration (NARA). For information on the availability of this material at NARA, call 202-741-6030, or go to: http://www.archives.gov/federal-register/cfr/ibr-locations.html.

Issued in Burlington, Massachusetts, on September 7, 2018.
Robert J. Ganley,
Manager, Engine and Propeller Standards Branch, Aircraft Certification Service.

[FR Doc. 2018-20551 Filed 9-20-18; 8:45 am]

BILLING CODE 4910-13-P